DEPARTMENT OF HEALTH AND HUMAN SERVICES

Substance Abuse and Mental Health Services Administration

Current List of HHS-Certified Laboratories and Instrumented Initial Testing Facilities Which Meet Minimum Standards To Engage in Urine and Oral Fluid Drug Testing for Federal Agencies

In notice document 2020-19209, appearing on pages 54393-54394, in the issue of September 1, 2020, make the following corrections:

1. On page 54394, in the first column, in the fifteenth through twentieth lines:

“Legacy Laboratory Services Toxicology, 1225 NE 2nd Ave, Portland, OR 97232, 503-413-5295/800-950-5295, MedTox Laboratories, Inc., 402 W County Road D, St. Paul, MN 55112, 651-636-7466/800-832-3244”, should read:

“Legacy Laboratory Services Toxicology, 1225 NE 2nd Ave, Portland, OR 97232, 503-413-5295/800-950-529

MedTox Laboratories, Inc., 402 W County Road D, St. Paul, MN 55112, 651-636-7466/800-832-3244”

2. On the same page, in the same column, in the thirty-second through thirty-ninth lines:

“Phamatech, Inc., 15175 Innovation Drive, San Diego, CA 92128, 888-635-5840, Quest Diagnostics Incorporated, 1777 Montreal Circle, Tucker, GA 30084, 800-729-6432, (Formerly: SmithKline Beecham Clinical Laboratories; SmithKline Bio-Science Laboratories)”, should read:

“Phamatech, Inc., 15175 Innovation Drive, San Diego, CA 92128, 888-635-5840

Quest Diagnostics Incorporated, 1777 Montreal Circle, Tucker, GA 30084, 800-729-6432, (Formerly: SmithKline Beecham Clinical Laboratories; SmithKline Bio-Science Laboratories)”

[FR Doc. C1-2020-19209 Filed 9-10-20; 8:45 am]

BILLING CODE 1301-00-D